DEPARTMENT OF JUSTICE

Bureau of Alcohol, Tobacco, Firearms, and Explosives

[OMB Number 1140-NEW]

Agency Information Collection Activities: Proposed Collection; Comments Requested

ACTION: 30-Day Notice of Information Collection Under Review: Letter Requesting Supporting Documents Identifying a Legal Entity.

The Department of Justice (DOJ), Bureau of Alcohol, Tobacco, Firearms, and Explosives (ATF) will be submitting the following information collection request to the Office of Management and Budget (OMB) for review and approval in accordance with the Paperwork Reduction Act of 1995. The proposed information collection is published to obtain comments from the public and affected agencies. This proposed information collection was previously published in the Federal Register Volume 75, Number 240, page 78268 on December 15, 2010, allowing for a 60 day comment period.

The purpose of this notice is to allow for an additional 30 days for public comment until March 25, 2011. This process is conducted in accordance with 5 CFR 1320.10. To ensure that comments on the information collection are received, OMB recommends that written comments be faxed to the Office of Information and Regulatory Affairs, OMB, Attn: DOJ Desk Officer, Fax 202-395-7285, or e-mailed to oira_submission@omb.eop.gov. All comments should be identified with the OMB control number [1140-xxxx]. Also include the DOJ docket number found in brackets in the heading of this document. If you have questions concerning the collection, please contact Gary Schaible, Gary.Schiable@atf.gov or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New.

(2) Title of the Form/Collection: Letter Requesting Supporting Documents Identifying a Legal Entity.

(3) Agency form number, if any, and the applicable component of the Department of Justice sponsoring the collection: Form Number: None. Bureau of Alcohol, Tobacco, Firearms and Explosives.

(4) Affected public who will be asked or required to respond, as well as a brief abstract: Primary: Business or other for-profit. Other: none. Abstract: The collection of information will be used to determine the lawful existence and validity of a legal entity before ATF approves the transfer of an NFA firearm to that entity.

(5) An estimate of the total number of respondents and the amount of time estimated for an average respondent to respond: It is estimated that 5000 respondents will spend approximately 30 minutes to compile documentation requested by the letter.

(6) An estimate of the total burden (in hours) associated with the collection: There are an estimated 5,000 total burden hours associated with this collection.

If additional information is required contact: Lynn Murray, Department Clearance Officer, United States Department of Justice, Policy and Planning Staff, Justice Management Division, Room 2E-502, Two Constitution Square, 145 N Street, NE., Washington, DC 20530.

Dated: February 16, 2011.
Lynn Murray,
Department Clearance Officer, PRA, United States Department of Justice.

[FR Doc. 2011-3953 Filed 2-22-11; 8:45 am]

BILLING CODE 4410-FY-P